FEDERAL EMERGENCY MANAGEMENT AGENCY

Fee Schedule for National Flood Insurance Program Map and Insurance Products

AGENCY: Federal Emergency Management Agency (FEMA).

ACTION: Notice.

SUMMARY: This Notice contains the revised fee schedule for processing requests for the National Flood Insurance Program (NFIP) map and insurance products available through the FEMA Map Service Center (MSC). The changes in the fee schedule will allow FEMA to reduce further the expenses to the NFIP by recovering more fully the costs associated with producing, retrieving, and distributing particular NFIP map and insurance products. This year, with the implementation of the MSC's new e-commerce site and conversion of the paper maps and studies to digital files, the MSC is also recommending fee charges for the new online Internet requests and CD products.

DATES: The revised fee schedule is effective for all requests dated, May 1, 2002, or later.

FOR FURTHER INFORMATION CONTACT: Frederick H. Sharrocks, Jr., Chief, Mapping Support Branch, Federal Insurance and Mitigation Administration, 500 C Street SW., Washington, DC 20472; by telephone at (202) 646-2796 or by facsimile at (202) 646-4596 (not toll-free calls), by e-mail at Frederick.Sharrocks@fema.gov.

SUPPLEMENTARY INFORMATION: Throughout this Notice, we use “we,” “our,” and “us” to refer to FEMA.

This Notice contains the revised fee schedule for processing requests for NFIP map and insurance products available through the MSC.

Effective Date

The revised fee schedule is effective for all written requests, on-line Internet requests made through the FEMA Flood Map Store, and all telephone requests received on or after May 1, 2002. The revised fee schedule supersedes the current fee schedule for requests for Map and Insurance products, established May 3, 2000.

Evaluations Performed

To develop the revised fee schedule for requests for particular NFIP map and insurance products, we first evaluated the actual costs incurred at the MSC for producing, retrieving, and distributing those products. We then analyzed historical sales, cost data, and product unit costs for unusual trends or anomalies; analyzed the effect of program changes, new products, technology investments, and other factors on future sales and product costs. The products covered by this Notice are discussed in detail below.

Periodic Evaluation of Fees

As indicated in the Notice published in the Federal Register on May 3, 2000, a primary component of the fees is the prevailing private sector rates charged to FEMA for labor and materials. Because these rates and the actual production, retrieval, and distribution costs may vary from year to year, we will evaluate the fees periodically and publish a revised fee schedule, when appropriate, as a notice in the Federal Register Fee Schedule for Requests for Map and Insurance Products.

Our MSC distributes a variety of NFIP map and insurance products to a broad range of our customers, including Federal, State, and local government officials; real estate professionals; insurance providers; appraisers; builders; land developers; design engineers; surveyors; lenders; homeowners; and other private citizens. Specifically, our MSC distributes the following products:

• Paper (printed) copies of Flood Hazard Boundary Maps (FHBMs);

• Paper (printed) copies of Flood Insurance Rate Maps (FIRMs);

• Paper (printed) copies of Digital Flood Insurance Rate Maps (DFIRMs);

• Paper (printed) copies of Flood Insurance Study (FIS) reports, including the narrative, tables, Flood Profiles, photographs, and other graphics;

• Paper (printed) copies of Flood Boundary and Floodway Maps (FBFMs), when they are included as an exhibit in the FIS;

• Digital Q3 Flood Data files, which FEMA developed by scanning the published FIRM and vectorizing a thematic overlay of flood risks;

• Digital Q3 Flood Data files for Coastal Barrier Resource Areas (CBRA Q3 Flood Data files);

• Community Status Book, which is a report generated by FEMA's Community Information System database that provides pertinent map status information for all identified communities;

• Flood Map Status Information Service (FMSIS), through which FEMA provides status information for effective NFIP maps;

• Letter of Map Change (LOMC) Subscription Service, through which FEMA makes certain types of LOMCs available biweekly on CD-ROM;

• NFIP Insurance Manual (Full Manual), which provides vital NFIP information for insurance agents nationwide;

• NFIP Insurance Manual (Producer's Edition), which is used for reference and training purposes; and

• Community Map Action List (CMAL), which is a bimonthly list of communities and their NFIP status codes.

Based on our review of actual cost data and future trends, we revised our fee schedule for the products listed above to reflect actual production costs (i.e., printing and operating costs). Specifically, we increased both the processing fee and the shipping costs for paper copies of FHBMs, FIRMs, DFIRMs, FBFMs, and FIS reports, and we increased the shipping cost only for the Q3 Flood Data Files, CBRA Flood Data Files, Community Status Book, FMSIS, LOMC Subscription Service, NFIP Insurance Manuals, and CMAL. Federal, State, and local governments continue to be exempt from paying fees for the map products.

The MSC is now preparing to distribute its products in several new ways. While we will continue to ship paper products, we are ready to begin distributing digital products for download directly from the Internet and on CD. The following is a description of the MSC's new digital products:

• Maps on the Web—raster images of the FIRMs and Floodways in TIFF format.

• FIS on the Web—raster images of FIS in PDF format.

• Flood Map CDs without a Database—includes only the raster images of the maps and can be purchased by panel or in community, county, or state kits.

• F-MIT Light on the Web—a free downloadable flood map image view tool, to be used in conjunction with viewing TIFF images that supports panning, zooming, and creating a “firmette”. A firmette is a user-defined “cut-out” section of the map at 100% map scale designed for printing on a standard office printer.

• F-MIT Light on CD—same as F-MIT Light on the Web, designed for use with the Flood Map CD without a Database.

• FEMA's Guidelines and Specifications for Flood Hazard Mapping Partners on CD: This document combine previous FEMA publications, guidance documents, and memorandums regarding Flood Hazard Mapping. The Guidelines reflect recent changes to processes and products associated with the implementation of the Map Modernization Program, including the Cooperating Technical Partners initiative, new Project Scoping procedures, and digital Flood Insurance Rate Map (DFIRM) specifications.

For more information on the map and insurance products available from the MSC, we invite interested parties to visit our MSC Web site at http://www.fema.gov/msc.

We show the revised fee schedule for the current products and the proposed fee schedule for the new products in the table below:

| Fee | Shipping
Paper Product or Service:
Paper copies of FHBM, FIRM, DFIRM, or FBFM panels | $2.00 per panel | $0.37 per panel for first 10 panels plus $0.03 for each additional panel.
Paper copies of FIS (not including FBFM panels that are included as exhibit) | $5.00 per FIS volume | $4.00 for first FIS plus $0.40 for each additional FIS.
Hurry Charge for FHBM, FIRM, DFIRM, FBFM, or FIS | $33.00 per order | Based on product and units shipped; no additional shipping charge if customer provides own shipping account.
Q3 Flood Data Files | $50.00 per CD-ROM | $3.65 for first 4 CD-ROMs, plus $0.10 for each additional CD-ROM in the same order
CBRA Q3 Flood Data Files | $50.00 per CD-ROM | $3.65 for first 4 CD-ROMs, plus $0.10 for each additional CD-ROM in the same order.
Community Status Book (Individual Orders) | $2.50 per state | $1.00 per state
| $20.50 for entire U.S. | $4.26 for entire U.S.
Community Status Book (Annual Subscription) | $50.00 per state | Not applicable.
| $250.00 for entire U.S.
FMSIS (Individual Orders) | $13 per state $38 for entire U.S. | $3.65 for first 4 CD-ROMs, plus $0.10 for each additional CD-ROM in the same order.
FMSIS (Annual Subscription) | $148 per state | Not appllicable.
| $419 for entire U.S.
LOMC Subscription Service (Individual Orders) | $85 per per issue | $3.65 for first 4 CD-ROMs, plus $0.10 for each additional CD-ROM in the same order.
LOMC Subscription Service (Annual Subscription) | $2,000 | Not applicable.
NFIP Insurance Manual:
(Full Manual) | $25.00 per copy for complete manual | $4.85 for the initial manual, plus $1.32 for each semi-annual update.
NFIP Insurance Manual (Producer's edition) | $15.00 per copy | $4.85 for the initial manual, plus $1.32 for each semi-annual update.
CMAL | No charge | $1.00 for each list.
Internet Products (Downloaded from the web):
FIRMs | $1.50 per map panel | None.
FIS | $4.00 per study plus $1.50 per floodway | None.
F-MIT Light (view tool for map images) | Free | N/A.
CD Products: |  |
Maps on CD without County Database | $1.50 per panel | $3.65 for the first 4 CDs plus $0.10 for each additional CD.
FIS on CD | $4.00 per study plus $1.50 per floodway | $3.65 for the first 4 CDs plus $0.10 for each additional CD.
Priority Handling Charge added to regular charge | $33.00 | N/A.
F-MIT Light on CD (view tool for map images) | Free | $3.65.
FEMA's Guidelines and Specifications for Flood Hazard Mapping Partners on CD | $2.60 | $3.65.

Payment Submission Requirements

Fee payments for non-exempt requests must be made to us in advance of services being rendered. These payments shall be made in the form of a check or money order or by credit card payment. Checks and money orders must be made payable, in U.S. funds, to the National Flood Insurance Program.

We will deposit all fees collected to the National Flood Insurance Fund, which is the source of funding for providing these services.

Dated: March 20, 2002.
Robert F. Shea,
Acting Administrator, Federal Insurance and Mitigation Administration.

[FR Doc. 02-7195 Filed 3-25-02; 8:45 am]

BILLING CODE 6718-04-P